DEPARTMENT OF HOMELAND SECURITY

U.S. Customs and Border Protection

[1651-0034]

Agency Information Collection Activities: CBP Regulations Pertaining to Customs Brokers

AGENCY: U.S. Customs and Border Protection (CBP), Department of Homeland Security.

ACTION: 30-Day notice and request for comments; extension of an existing collection of information.

SUMMARY: The Department of Homeland Security, U.S. Customs and Border Protection will be submitting the following information collection request to the Office of Management and Budget (OMB) for review and approval in accordance with the Paperwork Reduction Act of 1995. The information collection is published in the Federal Register to obtain comments from the public and affected agencies. Comments are encouraged and will be accepted (no later than August 14, 2017) to be assured of consideration.

ADDRESSES: Interested persons are invited to submit written comments on this proposed information collection to the Office of Information and Regulatory Affairs, Office of Management and Budget. Comments should be addressed to the OMB Desk Officer for Customs and Border Protection, Department of Homeland Security, and sent via electronic mail to dhsdeskofficer@omb.eop.gov.

FOR FURTHER INFORMATION CONTACT: Requests for additional information should be directed to the CBP Paperwork Reduction Act Officer, U.S. Customs and Border Protection, Office of Trade, Regulations and Rulings, Economic Impact Analysis Branch, 90 K Street NE., 10th Floor, Washington, DC 20229-1177, or via email CBP_PRA@cbp.dhs.gov. Please note that the contact information provided here is solely for questions regarding this notice. Individuals seeking information about other CBP programs should contact the CBP National Customer Service Center at 877-227-5511, (TTY) 1-800-877-8339, or CBP Web site at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (82 FR 16603) on April 5, 2017, allowing for a 60-day comment period. This notice allows for an additional 30 days for public comments. This process is conducted in accordance with 5 CFR 1320.10. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: CBP Regulations Pertaining to Customs Brokers (19 CFR part 111).

OMB Number: 1651-0034.

Form Numbers: CBP Forms 3124 and 3124E.

Current Actions: CBP proposes to extend the expiration date of this information collection. There is an increase to the burden hours due to increased applicants. There is no change to the information collected.

Type of Review: Extension (without change).

Affected Public: Businesses, Individuals.

Abstract: Section 641 of the Tariff Act of 1930, as amended (19 U.S.C. 1641), and Part 111 of the CBP regulations govern the licensing and conduct of customs brokers. Specifically, an individual who wishes to take the broker exam must complete CBP Form 3124E, “Application for Customs Broker License Exam,” or to apply for a broker license, CBP Form 3124, “Application for Customs Broker License.” The procedures to request a local or national broker permit can be found in 19 CFR 111.19, and a triennial report is required under 19 CFR 111.30. CBP Forms 3124 and 3124E may be found on the Forms page on CBP.gov at: https://www.cbp.gov/newsroom/publications/forms. Further information about the customs broker exam and how to apply for it may be found at http://www.cbp.gov/trade/broker.

CBP Form 3124E, “Application for Customs Broker License Exam”

Estimated Number of Respondents: 2,300.

Total Number of Estimated Annual Responses: 2,300.

Estimated Time per Response: 1 hour.

Estimated Total Annual Burden Hours: 2,300.

Estimated Total Annual Cost to the Public: $460,000.

CBP Form 3124, “Application for Customs Broker License”

Estimated Number of Respondents: 750.

Total Number of Estimated Annual Responses: 750.

Estimated Time per Response: 1 hour.

Estimated Total Annual Burden Hours: 750.

Estimated Total Annual Cost to the Public: $150,000.

National Broker Permit Application (19 CFR 111.19)

Estimated Number of Respondents: 200.

Total Number of Estimated Annual Responses: 200.

Estimated Time per Response: 1 hour.

Estimated Total Annual Burden Hours: 200.

Estimated Total Annual Cost to the Public: $20,000.

Triennial Report (19 CFR 111.30)

Estimated Number of Respondents: 4,550.

Total Number of Estimated Annual Responses: 4,550.

Estimated Time per Response: .5 hours.

Estimated Total Annual Burden Hours: 2,275.

Estimated Total Annual Cost to the Public: $455,000.

Dated: July 11, 2017.
Seth Renkema,
Branch Chief, Economic Impact Analysis Branch U.S. Customs and Border Protection.

[FR Doc. 2017-14787 Filed 7-13-17; 8:45 am]

BILLING CODE 9111-14-P